DEPARTMENT OF ENERGY

Federal Energy Regulatory Commission

[Project/Docket No. CP22-493-000]

Tennessee Gas Pipeline Company, L.L.C.; Notice of Waiver Period for Water Quality Certification Application

On July 22, 2022, Tennessee Gas Pipeline Company, L.L.C. submitted to the Federal Energy Regulatory Commission (Commission) a copy of its application for a Clean Water Act section 401(a)(1) water quality certification filed with Tennessee Department of Environment and Conservation, in conjunction with the above captioned project. Pursuant to 40 CFR 121.6 and section 157.22 of the Commission's regulations,¹ we hereby notify the Tennessee Department of Environment and Conservation of the following:

¹ 18 CFR 157.22.

Date of Receipt of the Certification Request: July 22, 2022.

Reasonable Period of Time to Act on the Certification Request: July 22, 2023.

If the Tennessee Department of Environment and Conservation fails or refuses to act on the water quality certification request on or before the above date, then the agency certifying authority is deemed waived pursuant to section 401(a)(1) of the Clean Water Act, 33 U.S.C. 1341(a)(1).

Dated: August 18, 2022.
Kimberly D. Bose,
Secretary.

[FR Doc. 2022-18233 Filed 8-23-22; 8:45 am]

BILLING CODE 6717-01-P